NATIONAL TRANSPORTATION SAFETY BOARD

Sunshine Act Meeting

TIME AND DATE: 9:30 a.m., Tuesday, September 13, 2016.

PLACE: NTSB Conference Center, 429 L'Enfant Plaza SW., Washington, DC 20594.

STATUS: The two items are open to the public.

MATTERS TO BE CONSIDERED:

8780 Aircraft Accident Report—Runway Excursion During Landing, Delta Air Lines Flight 1086, Boeing MD-88, N909DL, New York, New York, March 5, 2015.

8628A Safety Study—An Assessment of the Effectiveness of the U.S. Coast Guard Vessel Traffic Service System.

NEWS MEDIA CONTACT: Telephone: (202) 314-6100.

The press and public may enter the NTSB Conference Center one hour prior to the meeting for set up and seating.

Individuals requesting specific accommodations should contact Rochelle Hall at (202) 314-6305 or by email at Rochelle.Hall@ntsb.gov by Wednesday, September 7, 2016.

The public may view the meeting via a live or archived webcast by accessing a link under “News & Events” on the NTSB home page at www.ntsb.gov.

Schedule updates, including weather-related cancellations, are also available at www.ntsb.gov.

FOR MORE INFORMATION CONTACT: Candi Bing at (202) 314-6403 or by email at bingc@ntsb.gov.

FOR MEDIA INFORMATION CONTACT: Terry Williams at (202) 314-6100 or by email at terry.williams@ntsb.gov.

Dated: August 25, 2016.
Candi R. Bing,
Federal Register Liaison Officer.

[FR Doc. 2016-20761 Filed 8-25-16; 11:15 am]

BILLING CODE 7533-01-P